DEPARTMENT OF COMMERCE

National Oceanic and Atmospheric Administration

[RTID 0648-XA668]

Pacific Island Pelagic Fisheries; False Killer Whale Take Reduction Plan; New Trigger Value for Southern Exclusion Zone Closure

AGENCY: National Marine Fisheries Service (NMFS), National Oceanic and Atmospheric Administration (NOAA), Commerce.

ACTION: Notice.

SUMMARY: In accordance with the Marine Mammal Protection Act of 1972 and the False Killer Whale Take Reduction Plan, NMFS is publishing a new trigger value for the Southern Exclusion Zone closure. The new trigger is four observed mortality or serious injuries of false killer whales incidental to the deep-set longline fishery within the U.S. Exclusive Economic Zone.

FOR FURTHER INFORMATION CONTACT: Diana Kramer, NMFS Pacific Islands Region, (808) 725-5167, Diana.Kramer@noaa.gov; or Kristy Long, NMFS Office of Protected Resources, (301) 427-8402, Kristy.Long@noaa.gov.

SUPPLEMENTARY INFORMATION:

Background

The False Killer Whale Take Reduction Plan (Plan) was implemented on December 31, 2012, pursuant to section 118(f) of the Marine Mammal Protection Act (MMPA) to reduce the level of incidental mortality and serious injury (M/SI) of the Hawaii pelagic and Hawaii insular stocks of false killer whales in the Hawaii longline fisheries (77 FR 71260; November 29, 2012). The Plan, based on consensus recommendations from the False Killer Whale Take Reduction Team, was implemented by regulations, which created the Southern Exclusion Zone (SEZ) (50 CFR 229.37(d)(2)) that would be closed to deep-set longline fishing if a certain number (trigger) of false killer whale M/SI were observed in the deep-set fishery in the U.S. Exclusive Economic Zone (EEZ). As described in the Plan regulations, the SEZ is bounded on the east at 154°30′ W longitude, on the west at 165° W longitude, on the north by the boundaries of the Main Hawaiian Islands Longline Fishing Prohibited Area and Papahanaumokuakea Marine National Monument, and on the south by the EEZ boundary (see Figure 1). The regulations at 50 CFR 229.37(e)(2) define the trigger as the larger of either of these two values: (i) Two observed M/SI of false killer whales within the EEZ around Hawaii, or (ii) the smallest number of observed false killer whale M/SI that, when extrapolated based on the percentage observer coverage in the deep-set longline fishery for that year, exceeds the Hawaii Pelagic false killer whale stock's potential biological removal (PBR). NMFS established the trigger value for the first year of the Plan's implementation as two observed false killer whale M/SI by the deep-set longline fishery within the U.S. EEZ around Hawaii (77 FR 71259, November 29, 2012), based on the potential PBR of 9.1 for the Hawaii pelagic stock of false killer whales, as calculated in the draft 2012 Stock Assessment Report (SAR) (Carretta et al., 2012a). The Plan specifies the trigger value (two) will remain valid until NMFS publishes a new trigger value in the Federal Register (50 CFR 229.37(e)(1)).

In June 2020, NMFS published NOAA Administrative Report H-20-06, “Oleson, E.M. 2020. Abundance, potential biological removal, and bycatch estimates for the Hawaii pelagic stock of false killer whales for 2015-2019.” This report provided updated abundance information for the Hawaii pelagic stock of false killer whales and is considered the best scientific information available on the stock's abundance and resulting PBR. The abundance estimate for the Hawaii pelagic stock of false killer whales presented in this report is 2,086 (CV = 0.35) individuals in the Hawaii EEZ. The minimum population abundance (Nmin), used for calculating PBR, is 1,567 animals. The PBR for this stock within the EEZ is calculated to be 16 pelagic false killer whales.

Based on the updated PBR of 16 whales for the Hawaii pelagic stock of false killer whales, and the 2020 expected observer coverage (20 percent), the trigger value (ii) is calculated as four whales. Trigger value (ii) (four whales) is larger than value (i) (two whales), therefore, NMFS sets the trigger value for SEZ closure at four observed false killer whale M/SI in the deep-set longline fishery in the EEZ around Hawaii.

Information on the False Killer Whale Take Reduction Plan is available on the internet at the following address: https://www.fisheries.noaa.gov/pacific-islands/marine-mammal-protection/pacific-islands-region-false-killer-whale-take-reduction-team. NOAA Administrative Report H-20-06 is available on the internet at the following address: https://doi.org/10.25923/wmg3-ps37. Copies of reference materials may also be obtained from the NMFS Pacific Islands Regional Office, Protected Resources Division, 1845 Wasp Blvd., Building 176, Honolulu, HI 96818.

This notice serves as a notification to fishermen, the fishing industry, and the general public that the SEZ closure trigger value is four observed false killer whale M/SI in the deep-set longline fishery in the EEZ around Hawaii.

Authority: 16 U.S.C. 1361 et seq.

Dated: December 10, 2020.
Samuel D. Rauch, III,
Deputy Assistant Administrator for Regulatory Programs, National Marine Fisheries Service.

[FR Doc. 2020-27548 Filed 12-14-20; 8:45 am]

BILLING CODE 3510-22-P